DEPARTMENT OF ENERGY

Federal Energy Regulatory Commission

[Docket No. EC04-147-000, et al.]

NCP of Virginia, LLC, et al.; Electric Rate and Corporate Filings

August 23, 2004.

The following filings have been made with the Commission. The filings are listed in ascending order within each docket classification.

1. NCP of Virginia, LLC, TM Delmarva Power L.L.C.

[Docket No.: EC04-147-000]

Take notice that on August 18, 2004, NCP of Virginia, LLC (NCP) and TM Delmarva Power L.L.C. (TMD) submitted an application pursuant to section 203 of the Federal Power Act for authorization of a disposition of jurisdictional facilities whereby TMD will purchase NCP's interest in Commonwealth Chesapeake Company, L.L.C. in exchange for a combination of cash and TECO Energy, Inc. common stock.

Comment Date: 5 p.m. eastern standard time on September 8, 2004.

2. ANP Bellingham Energy Company, LLC, ANP Blackstone Energy Company, LLC, ANP Funding I, L.L.C., ANP Marketing Company, Hartwell Energy Limited Partnership, Milford Power Limited Partnership

[Docket No.: EC04-148-000]

Take notice that on August 18, 2004, ANP Bellingham Energy Company, LLC (ANP Bellingham), ANP Blackstone Energy Company, LLC (ANP Blackstone), ANP Funding I, L.L.C. (ANP Funding), ANP Marketing Company (ANP Marketing), Hartwell Energy Limited Partnership (Hartwell), and Milford Power Limited Partnership (Milford) (jointly, Applicants) filed an application pursuant to section 203 of the Federal Power Act requesting authorization for an internal reorganization. Applicants requested expedited consideration of the application.

Comment Date: 5 p.m. eastern standard time on September 8, 2004.

3. Vermont Electric Cooperative, Inc.

[Docket No.: EC04-149-000]

Take notice that on August 19, 2004, Vermont Electric Cooperative, Inc. (VEC) filed with the Commission an application pursuant to section 203 of the Federal Power Act for authorization to purchase certain shares of voting Class B Common Stock issued by the Vermont Electric Power Company, Inc. VEC states that approval of the stock issuance by the Vermont Public Service Board is pending. VEC requests that the Commission issue an order granting approval no later than September 17, 2004.

VEC states that the Vermont Public Service Board, the Vermont Department of Public Service, and VELCO were mailed copies of the filing.

Comment Date: 5 p.m. eastern standard time on September 9, 2004.

4. PSEG Power In-City I, LLC Complainant, v. Consolidated Edison Co. of New York, Inc. Respondent.

[Docket No.: EL04-126-000]

Take notice that on August 23, 2004, PSEG Power In-City I, LLC (In-City) filed a complaint under section 206 of the Federal Power Act, 16 U.S.C. 824e (1994), and section 206 of the Commission's Rules of Practice and Procedure, 18 CFR 206 (2003), against Consolidated Edison Co. of New York, Inc. (ConEd) requesting that the Commission extend by 18 months the Interconnection Date of In-City's Interconnection Agreement with ConEd.

Comment Date: 5 p.m. eastern standard time on September 13, 2004.

5. Duke Power, a Division of Duke Energy Corporation

[Docket No.: ER96-110-011]

Take notice that, on August 17, 2004, Duke Power, a division of Duke Energy Corporation, submitted an errata to its August 11, 2004 compliance filing in Docket No. ER96-110-010.

Duke Power states that copies of the filing were served on parties on the official service list in the above-captioned proceeding, the North Carolina Utilities Commission and the South Carolina Public Service Commission.

Comment Date: 5 p.m. eastern standard time on September 7, 2004.

6. Constellation Power Source, Inc.

[Docket No.: ER97-2261-017]

Take notice that on August 16, 2004, Constellation Power Source, Inc. (CPS), submitted a notice of change in status under CPS' market-based rate authority, pursuant to Section 205 of the Federal Power Act and the Federal Energy Regulatory Commission's order in Constellation Power Source, Inc., 79 FERC ¶ 61,167 (1997).

CPS states that copies of the filing were served upon parties on the official service list in the above-captioned proceeding.

Comment Date: 5 p.m. eastern standard time on September 7, 2004.

7. Consolidated Edison Energy, Inc.

[Docket No.: ER00-865-002]

Take notice that on August 18, 2004, Consolidated Edison Energy, Inc., (CEE) submitted an amendment to its Tariff for the Wholesale Sale of Electricity at Market-Based Rates to include the Market Behavior Rules promulgated by the Commission, Investigation of Terms and Conditions of Public Utility Market-Based Rate Authorizations, 105 FERC ¶ 61,218 (2003), and to correct the inadvertent omission from the tariff of CEE's authority to make sales of ancillary services at market-based rates to the ISO New England, PJM Interconnection ISO, and New York ISO.

CEE states that it is serving this filing on all parties to the subject docket and on the New York Public Service Commission.

Comment Date: 5 p.m. eastern standard time on September 8, 2004.

8. ISO New England Inc .

[Docket No.: ER02-2153-008]

Take notice that on August 16, 2004, ISO New England Inc. (ISO) submitted a report in compliance with the Commission's order issued July 31, 2004 in Docket No. ER02-2153-000.

ISO states that copies of the filing have been served upon all parties to this proceeding and the New England utility regulatory agencies, and electronically upon the New England Power Pool participants.

Comment Date: 5 p.m. eastern standard time on September 7, 2004.

9. ONEOK Energy Marketing and Trading Company, L.P.

[Docket No.: ER03-10-002]

Take notice that on August 17, 2004, ONEOK Energy Marketing and Trading Company, L.P. (OEMT), formerly known as ONEOK Power Marketing Company, submitted a report regarding its triennial updated market analysis.

Comment Date: 5 p.m. eastern standard time on September 7, 2004.

10. Southern California Edison Company

[Docket No.: ER04-757-001]

Take notice that on August 18, 2004, Southern California Edison Company (SCE) submitted a revised Amended and Restated Edison-AEPCO Firm Transmission Service Agreement and a revised Amended and Restated Edison-AEPCO Load Control Agreement between SCE and the Arizona Electric Power Cooperative, Inc. (AEPCO), and the Southwest Transmission Cooperative, Inc. (SWTC). SEC requests an effective date of June 1, 2004.

SCE states that copies of the filing were served upon those persons whose names appear on the official service list compiled by the Commission for this proceeding, the Public Utilities Commission of the State of California, AEPCO and SWTC.

Comment Date: 5 p.m. eastern standard time on September 8, 2004.

11. ISO New England Inc.

[Docket No.: ER04-798-002]

Take notice that on August 16, 2004, ISO New England Inc. (ISO) submitted Substitute Sheet No. 51-A to New England Power Pool's FERC Electric Rate Schedule No. 7 in compliance with the Commission's order issued July 15, 2004 in Docket No. ER04-798-000. 108 FERC ¶ 61,069.

Comment Date: 5 p.m. eastern standard time on September 7, 2004.

12. Union Electric Company

[Docket No.: ER04-931-001]

Take notice that on August 16, 2004, Union Electric Company, d/b/a AmerenUE, (Union) submitted for filing a corrected version of their June 15, 2004 filing of an unexecuted Contract between United States of America, represented by the Secretary of Energy, acting by and through the Administrator, Southwestern Power Administration and Union Electric Company, d/b/a AmerenUE (the parties). Union states that the purpose of this filing is to correct typographical errors in the June 15, 2004 document.

Union states that copies of the Application have been served on the Missouri Public Service Commission and the Southwestern Power Administration.

Comment Date: 5 p.m. eastern standard time on September 7, 2004.

13. The Detroit Edison Company, DTE East China, LLC, DTE River Rouge No. 1, LLC

[Docket No.: ER04-948-001]

Take notice that on August 16, 2004, DTE East China, LLC and DTE River Rouge No. 1, LLC (Applicants) submitted a compliance filing pursuant to a Commission's order issued July 16, 2004 in Docket No. ER04-948-000, 108 FERC ¶ 61,070.

Applicants state that copies of the filing were served on parties on the official service list in the above-captioned proceeding.

Comment Date: 5 p.m. eastern standard time on September 7, 2004.

14. The Dayton Power and Light Company

[Docket No.: ER04-1079-001]

Take notice that on August 19, 2004, The Dayton Power and Light Company (Dayton) filed a supplement to its Notice of Cancellation of its Open Access Transmission Tariff (OATT) filing made on July 30, 2004.

Dayton states that copies of the filing were served on Dayton's OATT customers, the Ohio state commission, and those on the service list in the above-captioned docket.

Comment Date: 5 p.m. eastern standard time on September 9, 2004.

15. PPL University Park, LLC

[Docket No.: ER04-1111-001]

Take notice that on August 13, 2004 University Park, LLC (PPL University Park) amended its filing submitted on August 11, 2004 in Docket No. ER04-1111-000.

PPL University Park states that copies of the filing were served upon PJM Interconnection, L.L.C., New York Independent System Operator, Inc. and ISO New England, Inc.

Comment Date: 5 p.m. eastern standard time on September 3, 2004.

16. Starlight Energy, L.P.

[Docket No.: ER04-1131-000]

Take notice that on August 16, 2004, Starlight Energy, L.P., (Starlight) petitioned the Commission for acceptance of Starlight's Rate Schedule FERC No. 1; the granting of certain blanket approvals, including the authority to sell electricity at market-based rates; and the waiver of certain Commission regulations. Starlight states that it intends to engage in wholesale electric power and energy purchases and sales as a marketer.

Comment Date: 5 p.m. eastern standard time on September 7, 2004.

17. PJM Transmission Owners Agreement Administrative Committee

[Docket No.: ER04-1132-000]

Take notice that on August 16, 2004 the PJM Transmission Owners Agreement Administrative Committee (TOA-AC) tendered for filing Second Revised Sheet No. 14 to PJM Interconnection, L.L.C.'s First Revised Rate Schedule FERC No. 29, an amendment to the PJM Transmission Owners Agreement. TOA-AC states that the amendment requires that the senior representative to the TOA-AC for each transmission owner be an officer of the transmission owner. TOA-AC requests an effective date of August 17, 2004.

TOA-AC states that copies of the filing were served upon PJM Interconnection, L.L.C., the representatives of the TOA-AC, and the relevant State Commissions.

Comment Date: 5 p.m. eastern standard time on September 7, 2004.

18. Southern California Edison Company

[Docket No.: ER04-1133-000]

Take notice that on August 16, 2004 Southern California Edison Company (SCE) submitted for filing a Notice of Cancellation of Service Agreement Nos. 79 and 82 under SCE's FERC Electric Tariff, First Revised Volume No. 5, to be effective December 5, 2003 and May 18, 2004, respectively.

SCE states that a copy of the filing has been served upon the Public Utilities Commission of the State of California, and Whitewater Hill Wind Partners, LLC.

Comment Date: 5 p.m. eastern standard time on September 7, 2004.

19. Consolidated Edison Solutions, Inc.

[Docket No.: ER04-1134-000]

Take notice that on August 17, 2004, Consolidated Edison Solutions, Inc. (ConEdison Solutions) filed a Notice of Cancellation of Inventory Management and Distribution Company, Inc.'s (IMD), FERC Rate Schedule No. 1, to terminate IMD's market-based rate authority effective February 27, 2001.

Comment Date: 5 p.m. eastern standard time on September 7, 2004.

20. Wisconsin Power and Light Company

[Docket No.: ER04-1135-000]

Take notice that on August 17, 2004, Wisconsin Power and Light Company (WPL) tendered for filing proposed changes in its FERC Electric Service Tariff—W-2A, W-3A, W-4A, and PR-1 (Volume Nos. 1 and 2). WPL states that the proposed changes would increase revenues from jurisdictional sales and service by $12.2 million based on the 12-month period ending December 31, 2005. In addition, WPL proposes to extend the applicability of its fuel adjustment clause to its FERC Electric Service Tariff—W-2A. WPL requests that proposed rates in this proceeding go into effect under bond on January 1, 2005.

WPL states that copies of the filing were served upon WPL's jurisdictional customers, their representatives and the Public Service Commission of Wisconsin.

Comment Date: 5 p.m. eastern standard time on September 7, 2004.

21. Huntington Beach Development, LLC

[Docket No.: ER04-1136-000]

Take notice that, on August 17, 2004, Huntington Beach Development, LLC (HBD) filed a Notice of Cancellation of its FERC Electric Rate Schedule No. 1. HBD requests an effective date of July 18, 2004.

Comment Date: 5 p.m. eastern standard time on September 7, 2004.

22. MeadWestvaco Energy Services, LLC

[Docket No.: ER04-1137-000]

Take notice that on August 18, 2004, MeadWestvaco Energy Services, LLC, (MWES) filed a petition for acceptance of MWES's Rate Schedule FERC No. 1; the granting of certain blanket approvals, including the authority to sell electricity at market-based rates; and the waiver of certain Commission regulations. MWES states that it intends to engage in wholesale electric power and energy purchases and sales as a marketer.

Comment Date: 5 p.m. eastern standard time on September 8, 2004.

23. New York Independent System Operator, Inc.

[Docket No.: ER04-1138-000]

Take notice that on August 18, 2004, the New York Independent System Operator, Inc. (NYISO) filed proposed revisions to its Market Administration and Control Area Services Tariff (Services Tariff) and Open Access Transmission Tariff to revise the exception from special balancing rules for certain generators. In addition, NYISO proposed to revise its Services Tariff to eliminate penalty exemptions for certain generators and to revise an accepted but not yet effective provision to extend bid-cost protections for certain generators.

NYISO states that it has electronically served a copy of this filing on the official representative of each of its customers, on each participant in its stakeholder committees, and on the New York Public Service Commission. In addition, the NYISO has served a copy of this filing on the electric utility regulatory agencies of New Jersey and Pennsylvania.

Comment Date: 5 p.m. eastern standard time on September 8, 2004.

24. Pacific Gas and Electric Company

[Docket No.: ER04-1139-000]

Take notice that on August 19, 2004, Pacific Gas and Electric Company (PG&E) tendered for filing an amendment to the Interconnection Agreement (IA) between PG&E and the Port of Oakland (Port) to include the Davis Substation at Transmission Voltage as a Point of Interconnection. PG&E states that the IA is submitted pursuant to the PG&E Wholesale Distribution Tariff (WDT). PG&E requests an effective date of January 5, 2005.

PG&E states that copies of this filing have been served upon Port, the California Independent System Operator Corporation, Western Area Power Administration and the California Public Utilities Commission.

Comment Date: 5 p.m. eastern standard time on September 9, 2004.

25. New England Power Pool

[Docket No.: ER04-1140-000]

Take notice that on August 20, 2004, New England Power Pool, (NEPOOL) Participants Committee filed changes to NEPOOL's Market Rule 1 and its Appendices. NEPOOL Participants Committee requests an effective date of November 1, 2004.

NEPOOL Participants Committee states that copies of these materials were sent to the New England state governors and regulatory commissions and the Participants in NEPOOL.

Comment Date: 5 p.m. eastern standard time on September 10, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1980 Filed 8-30-04; 8:45 am]

BILLING CODE 6717-01-P